DEPARTMENT OF ENERGY

Federal Energy Regulatory Commission

[Docket No. RP01-323-000]

East Tennessee Natural Gas Company; Notice of Cashout Report and Refund Plan

April 3, 2001.

Take notice that on March 30, 2001, East Tennessee Natural Gas Company (East Tennessee) tendered for filing its annual cashout report and refund plan for the November 1999 through October 2000 period in accordance with Rate Schedules LMS-MA and LMS-PA. Upon the Commission's approval of the refund plan included in the filing, East Tennessee proposes to refund to its customers $468,646 resulting from cashout operations.

East Tennessee states that copies of the filing were mailed to all affected customers of East Tennessee and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before April 10, 2001. Protests will be considered by the Commission in determining the appropriate action to be taken, but will not serve to make protestants parties to the proceedings. Any person wishing to become a part must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 19 CFR 385.2001(a)(1)(iii) and the instructions on the Commission's web site at http://www.ferc.fed.us/efi/doorbell.htm.

David P. Boergers,
Secretary.

[FR Doc. 01-8599 Filed 4-6-01; 8:45 am]

BILLING CODE 6717-01-M